FEDERAL COMMUNICATIONS COMMISSION

47 CFR Part 51

[CC Docket No. 98-147; CC Docket No. 96-98; FCC 01-26]

Deployment of Wireline Services Offering Advanced Telecommunications Capability and Implementation of the Local Competition Provisions of the Telecommunications Act of 1996

AGENCY: Federal Communications Commission.

ACTION: Final rule.

SUMMARY: This document addresses five petitions for reconsideration and/or clarification of the Commission's Line Sharing Order, in which the Commission required incumbent local exchange carriers (LECs) to make a portion of their voice customer's local loop available to competitive providers of advanced services. The Commission denies two of these petitions, and grants three of them.

DATES: Effective February 6, 2001.

FOR FURTHER INFORMATION CONTACT: Jessica Rosenworcel, Attorney Advisor, Policy and Program Planning Division, Common Carrier Bureau, (202) 418-1580.

SUPPLEMENTARY INFORMATION: This is a summary of the Commission's Third Report and Order on Reconsideration in CC Docket No. 98-147 and the Commission's Fourth Report and Order on Reconsideration in CC Docket No. 96-98. The complete text of this document is available for inspection and copying during normal business hours in the FCC Reference Information Center, Courtyard Level, 445 12th Street, SW., Washington, DC, and also may be purchased from the Commission's copy contractor, International Transcription Services (ITS, Inc.), CY-B400, 445 12th Street, SW., Washington, DC. It is also available on the Commission's website at http://www.fcc.gov/.

Synopsis of Reconsideration Order

1. The Commission takes several actions in this Reconsideration Order with respect to line sharing. Specifically, it clarifies that the requirement for an incumbent LEC to provide line sharing applies to the entire loop, even where the incumbent LEC has deployed fiber in the loop. With regard to line splitting, it grants AT&T and WorldCom's request for clarification that the incumbent LECs must permit competing carriers providing voice service using the unbundled-network-element (UNE) platform to self-provision or partner with a data carrier in order to provide voice and data service on the same line. The Commission denies Bell Atlantic's request for clarification that data carriers participating in line sharing arrangements are not required to have access to the loop's entire frequency range for testing purposes. It also denies Bell Atlantic's request that the Commission reconsider the requirement that incumbent LECs refusing to condition a loop demonstrate to the relevant state commission that conditioning the specific loop in question will significantly degrade voiceband services. Also, the Commission grants the joint petition of the National Telephone Cooperative Association and the National Rural Telephone Association for clarification regarding the line sharing obligations of rural incumbent LECs. The Commission rejects Bell Atlantic's contention that the industry is permitted to adopt a line sharing deployment schedule other than the one developed in the Line Sharing Order.

2. The Commission also takes several actions concerning spectrum management. First, it denies BellSouth's request that the Commission reconsider its finding that new technologies are presumed deployable anywhere when successfully deployed in one state without significantly degrading the performance of other services. Second, it denies Bell Atlantic's request for the Commission to reconsider its conclusion that state commissions are in the best position to determine the disposition of known disturbers in the network.

Ordering Clauses

3. Pursuant to the authority contained in sections 1-4, 201, 202, 251-254, 256, 271, and 303(r) of the Communications Act of 1934, as amended, 47 U.S.C. 51-154, 201, 202, 251-254, 256, 271, and 303(r), that the Third Report and Order on Reconsideration in CC Docket No. 98-147 and the Fourth Report and Order on Reconsideration in CC Docket No. 96-98 Are Adopted.

4. Pursuant to sections 1-4, 201, 202, 251-254, 256, 271, and 303(r) of the Communications Act of 1934, as amended, 47 U.S.C. 151-154, 201, 202, 251-254, 256, 271, and 303(r) that the petitions for reconsideration filed by Bell Atlantic and BellSouth on February 9, 2000, Are Denied.

5. Pursuant to sections 1-4, 201, 202, 251-254, 256, 271, and 303(r) of the Communications Act of 1934, as amended, 47 U.S.C. 151-154, 201, 202, 251,-254, 256, 271, and 303(r), that the petitions for reconsideration filed by AT&T Corp., MCI WorldCom, Inc., and the National Telephone Cooperative Association and the National Rural Telephone Association on February 9, 2000, Are Granted to the extent indicated herein and otherwise Are Denied.

List of Subjects in 47 CFR Part 51

Communications common carriers, Telecommunications, Interconnection.

Federal Communications Commission.
Magalie Roman Salas,
Secretary.

[FR Doc. 01-2915 Filed 2-5-01; 8:45 am]

BILLING CODE 6712-01-U